DEPARTMENT OF AGRICULTURE

Forest Service

Humboldt (NV) Resource Advisory Committee

AGENCY: Forest Service, USDA.

ACTION: Notice of meeting.

SUMMARY: The Humboldt (NV) Resource Advisory Committee (RAC) will meet in Winnemucca, Nevada. The committee is authorized under the Secure Rural Schools and Community Self-Determination Act (Pub. L. 110-343) (the Act) and operates in compliance with the Federal Advisory Committee Act. The purpose of the committee is to improve collaborative relationships and to provide advice and recommendations to the Forest Service concerning projects and funding consistent with the title II of the Act. The meetings are open to the public. The purpose of the meetings is to review and recommend projects for funding.

DATES: There will be two July meetings. The first meeting will be held on July 7, 2011. The second meeting will be on July 27, 2011. Meetings will begin at 10 a.m. and end approximately 5 p.m.

ADDRESSES: The July 7th meeting will be held at the Humboldt County Library, 85 East 5th St., Winnemucca, Nevada 89445; and the July 27th meeting will be held at the County Extension Office, 1085 Fairgrounds Road, Winnemucca, Nevada in the 4-H room.

All project proposals and comments, including names and addresses when provided, are placed in the record and are available for public inspections and copying. The public may inspect project proposals and comments received at the Santa Rosa Ranger District. Please call ahead to 775-623-5025 to facilitate entry in the building to view these documents.

FOR FURTHER INFORMATION CONTACT: Shonna Ingram, RAC Coordinator, USDA, Humboldt-Toiyabe National Forest, Santa Rosa Ranger District, 1200 E. Winnemucca Blvd., Winnemucca, Nevada 89445; (775) 623-5025 x 117; e-mail: sjingram@fs.fed.us.

Individuals who use telecommunication devices for the deaf (TDD) may call the Federal Information Relay Service (FIRS) at 1-800-877-8339 between 8 a.m. and 8 p.m., Eastern Standard Time, Monday through Friday. Requests for reasonable accommodation for access to the facility or proceedings may be made by contacting the person listed in FOR FURTHER INFORMATION CONTACT.

SUPPLEMENTARY INFORMATION: The following business will be conducted: Agenda items for July 7th meeting include: (1) Overview of project selection process; (2) Presentation and review of submitted proposals, and (3) Public Comment. Agenda items for July 27th meeting include: (1) Overview of project selection process; (2) Presentation and review of submitted proposals, (3) Selection of recommended proposals by RAC, and (4) Public Comment.

Anyone who would like to bring related matters to the attention of the committee may file written statements with the committee staff before or after the meeting. The agenda will include time for people to make oral statements of three minutes or less. Individuals wishing to make an oral statement should request in writing by June 23, 2011, to be scheduled on the agenda. Written comments and request for time and for oral comments must be sent to the Santa Rosa Ranger District, 1200 East Winnemucca Blvd., Winnemucca Nevada 89445, or by e-mail to sjingram@fs.fed.us, or via facsimile to 775-625-1200.

Project submittals by qualified entities must be received no later than 5 p.m. on June 23rd, 2011. Project forms and instructions are available on the Secure Rural Schools Web site— https://fsplaces.fs.fed.us/fsfiles/unit/wo/secure_rural_schools.nsf.

Dated: June 3, 2011.
Jeanne M. Higgins,
Forest Supervisor, Humboldt—Toiyabe National Forest.

[FR Doc. 2011-14522 Filed 6-10-11; 8:45 am]

BILLING CODE 3410-11-P